POSTAL SERVICE

39 CFR Part 111

Domestic Mail: Republic of the Marshall Islands and Federated States of Micronesia

AGENCY: Postal Service.

ACTION: Final rule.

SUMMARY: The Postal Service is amending Mailing Standards of the United States Postal Service, Domestic Mail Manual (DMM) to remove references to the Republic of the Marshall Islands and the Federated States of Micronesia. Mail to the Republic of the Marshall Islands and the Federated States of Micronesia is no longer treated as domestic mail.

EFFECTIVE DATE: 12:01 a.m., Sunday, January 8, 2006.

FOR FURTHER INFORMATION CONTACT: Obataiye B. Akinwole at 202-268-7262.

SUPPLEMENTARY INFORMATION: The Postal Service published a final notice of rulemaking entitled “International Mail: Republic of the Marshall Islands and Federated States of Micronesia” elsewhere in this issue of the Federal Register. This final notice of rulemaking adopts international rate schedules for the Republic of the Marshall Islands and the Federated States of Micronesia. The United States government negotiated this agreement with the two former United States Trust Territories.

List of Subjects in 39 CFR Part 111

Administrative practice and procedure, Postal Service.

For the reasons discussed above, the Postal Service is revising Mailing Standards of the United States Postal Service, Domestic Mail Manual (DMM) to remove references to the Republic of the Marshall Islands and the Federated States of Micronesia. The DMM is incorporated by reference in the Code of Federal Regulations. See 39 CFR part 111.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend Mailing Standards of the United States Postal Service, Domestic Mail Manual (DMM) as follows.

600 Basic Standards for all Mailing Services

* * * * *

601 Mailability

* * * * *

9.0 Perishables

* * * * *

9.3 Live Animals

* * * * *

9.3.7 Mailed to Pacific Islands

[Revise 9.3.7 by removing references to the Republic of the Marshall Islands and the Federated States of Micronesia.]

* * * * *

9.3.9 Other Insects

[Revise 9.3.9 by removing references to the Republic of the Marshall Islands and the Federated States of Micronesia.]

* * * * *

608 Postal Information and Resources

* * * * *

2.0 Domestic Mail

* * * * *

2.2 Mail Treated as Domestic

* * * * *

[Revise 2.2 by removing the listings for Marshall Islands, Republic of the, and Micronesia, Federated States of.]

* * * * *

Neva R. Watson,
Attorney, Legislative.

[FR Doc. 05-23006 Filed 11-22-05; 8:45 am]

BILLING CODE 7710-12-P